TENNESSEE VALLEY AUTHORITY

18 CFR Part 1301

Tennessee Valley Authority Procedures for the Protection of National Security Classified Information

AGENCY: Tennessee Valley Authority.

ACTION: Final rule.

SUMMARY: The Tennessee Valley Authority is amending its regulation which contain TVA's procedure for the Protection of National Security Classified Information. These amendments reflect changes in position titles and addresses; conform the references to Protection of National Security Classified Information to the most current publication of TVA's Protection of National Security Classified Information Notices in the Federal Register.

DATES: Effective date: September 25, 2018.

FOR FURTHER INFORMATION CONTACT: Glenn Alan Spencer, Employment & Government Law Attorney, Tennessee Valley Authority, 400 W Summit Hill Dr. (WT6), Knoxville, Tennessee 37902-1401; telephone (865) 632-6255 or by email at gaspencer@tva.gov.

SUPPLEMENTARY INFORMATION: Section 1301.63(a) currently states that Executive Order 13526 requires that each agency that originates or handles classified information designate a senior agency official to direct and administer its information security program. TVA's senior agency official is currently the Director, Enterprise Information Security & Policy. TVA is revising § 1301.63(a) to align with organizational and personnel changes within the agency.

Section 1301.67(c) currently states that requests shall be in writing, and shall be sent to: Director, Enterprise Information Security & Policy, Tennessee Valley Authority, 1101 Market St., Chattanooga, TN 37402. TVA is revising § 1301.67(c) to align with organizational and personnel changes within the agency.

TVA considers this rule to be a procedural rule which is exempt from notice and comment under 5 U.S.C. 533(b)(3)(A). This rule is not a significant rule for purposes of Executive Order 13526 and has not been reviewed by the Office of Management and Budget. As required by the Regulatory Flexibility Act, TVA certifies that these regulatory amendments will not have a significant impact on small business entities. Since this rule in non-substantive, it is being made effective September 25, 2018.

List of Subjects in 18 CFR Part 1301

Freedom of information, Government in the sunshine, Privacy, Protection of national security classified information.

For the reasons stated in the preamble, TVA amends 18 CFR part 1301 as follows:

PART 1301—PROCEDURES

1. The authority citation for part 1301 continues to read as follows:

Authority: 5 U.S.C. 552 and 552a; 16 U.S.C. 831-831dd.

Subpart E—Protection of National Security Classified Information

2. In § 1301.63, revise paragraph (a) to read as follows:

§ 1301.63 Senior agency official.

(a) The Executive Order requires that each agency that originates or handles classified information designate a senior agency official to direct and administer its information security program. TVA's senior agency official is the Director, TVA Police & Emergency Management.

* * * * *

3. In § 1301.67, revise paragraph (c) to read as follows:

§ 1301.67 Mandatory review for declassification.

* * * * *

(c) Requests shall be in writing, and shall be sent to: Director, TVA Police & Emergency Management, Tennessee Valley Authority, 400 West Summit Hill Drive, Knoxville, TN 37902.

Todd M. Peney,
Director, TVA Police & Emergency Management, Tennessee Valley Authority.

[FR Doc. 2018-20828 Filed 9-24-18; 8:45 am]

BILLING CODE 8120-08-P